DEPARTMENT OF HEALTH AND HUMAN SERVICES

Administration for Children and Families

Submission for OMB Review; Comment Request

Title: Tracking of Participants in the Head Start Impact Study.

OMB No.: 0970-0229.

Description: The Administration for Children and Families (ACF) within the Department of Health and Human Services (HHS) will collect follow-up information from children and families in the Head Start Impact Study. In anticipation of conducting a future follow-up for the study, ACF will collect information necessary to identify respondents' current location and follow-up with respondents in the future.

The Head Start Impact Study is a longitudinal study involving 4,667 first time enrolled three- and four-year-old preschool children across 84 nationally representative grantee/delegate agencies. Participants have been randomly assigned to either a Head Start group or a control group. Data collection for the study began in fall of 2002 and has been extended through late spring 2008 to include the participants' 3rd grade year. Tracking of the participants has continued every spring beginning in 2009 and ending in 2011.

ACF will continue to examine outcomes for the sample through the spring of the participant's 12th grade year. To maintain adequate sample size, telephone interviews will be conducted in order to update the respondent's location and contact information. This information will be collected from parents or guardians in the spring of 2012, 2013, 2014 2015, and 2016. This request package covers three years of information collection, from 2012 to 2014.

Respondents: The original sample of 4,667 treatment and control group members in the Head Start Impact Study, minus 432 families that have refused to participate in the study.

Annual Burden Estimates
Instrument | Annual number of respondents | Number of responses per respondent | Average burden hours per response | Total annual burden hours
Parent Tracking Interview | 4235 | 1 | ⅓ | 1412

Estimated Total Annual Burden Hours: 1412.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 9, 2012.
Steven M. Hanmer,
OPRE Reports Clearance Officer.

[FR Doc. 2012-3476 Filed 2-14-12; 8:45 am]

BILLING CODE 4184-22-M